DEPARTMENT OF COMMERCE

National Oceanic and Atmospheric Administration

RIN 0648-XG621

Mid-Atlantic Fishery Management Council (MAFMC); Public Hearings

AGENCY: National Marine Fisheries Service (NMFS), National Oceanic and Atmospheric Administration (NOAA), Commerce.

ACTION: Notice of public hearings.

SUMMARY: The Mid-Atlantic Fishery Management Council will hold five public hearings to solicit public comments on the Chub Mackerel Amendment to the Mackerel, Squid, Butterfish Fishery Management Plan.

DATES: The meetings will be held in December 2018 and January 2019. Written comments must be received by 11:59 p.m. EST, January 18, 2019. See SUPPLEMENTARY INFORMATION for the dates and times of each hearing.

ADDRESSES: Meeting addresses: Public hearings will be held in Virginia Beach, VA; Berlin, MD; Narragansett, RI; Cape May, NJ; and via webinar. For specific locations, see SUPPLEMENTARY INFORMATION.

Public comments: Written comments may also be sent by any of the following methods:

• Email to: jbeaty@mafmc.org

• Via webform at: http://www.mafmc.org/comments/chub-mackerel-amendment

• Mail to: Dr. Christopher M. Moore, Executive Director, Mid-Atlantic Fishery Management Council, 800 N. State Street, Suite 201, Dover, DE 19901. Please write “chub mackerel comments” on the outside of the envelope.

• Fax to: (302) 674-5399.

FOR FURTHER INFORMATION CONTACT: Christopher M. Moore, Ph.D., Executive Director, Mid-Atlantic Fishery Management Council, telephone: (302) 526-5255.

SUPPLEMENTARY INFORMATION: The Mid-Atlantic Fishery Management Council is developing an amendment to consider adding Atlantic chub mackerel (Scomber colias) as “stock in the fishery” in the Mackerel, Squid, and Butterfish Fishery Management Plan. Additional information is available at: http://www.mafmc.org/actions/chub-mackerel-amendment.

The Council will hold five public hearings on this amendment, during which Council staff will summarize the management alternatives under consideration prior to opening the hearing for public comments. The hearings schedule is as follows:

1. Monday December 3, 2018 at 6 p.m., at the Hilton Garden Inn Virginia Beach Oceanfront, 3315 Atlantic Avenue, Virginia Beach, VA 23451.

2. Tuesday December 4, 2018 at 6 p.m., at the Worcester County Library—Ocean Pines Branch, 11107 Cathell Road, Berlin, MD 21811.

3. Monday December 17, 2018 at 6 p.m., at the University of Rhode Island Bay Campus, Corless Auditorium, 215 South Ferry Road, Narragansett, RI 02882.

4. Tuesday December 18, 2018 at 6 p.m., at the Congress Hall Hotel, 200 Congress Place, Cape May, NJ 08204.

5. Monday January 14, 2019 at 6 p.m., via webinar, which can be accessed at http://mafmc.adobeconnect.com/chub_mackerel_public_hearing/. Audio only can be accessed via telephone by dialing 1-800-832-0736 and entering room number 5068871.

Public comments will be accepted at the public hearings and can also be submitted via email, an online form, mail, or fax, as described in the ADDRESSES section, above.

Special Accommodations

These meetings are physically accessible to people with disabilities. Requests for sign language interpretation or other auxiliary aids should be directed to M. Jan Saunders at the Mid-Atlantic Council Office (302) 526-5251 at least 5 days prior to the meeting date.

Dated: November 13, 2018.
Tracey L. Thompson,
Acting Deputy Director, Office of Sustainable Fisheries, National Marine Fisheries Service.

[FR Doc. 2018-25056 Filed 11-15-18; 8:45 am]

BILLING CODE 3510-22-P